DEPARTMENT OF ENERGY

Federal Energy Regulatory Commission

[Project No. 2715-026]

Kaukauna Utilities; Notice of Application Accepted for Filing and Soliciting Motions To Intervene and Protests

Take notice that the following hydroelectric application has been filed with the Commission and is available for public inspection.

a. Type of Application: New Major License.

b. Project No.: P-2715-026.

c. Date filed: July 22, 2022.

d. Applicant: Kaukauna Utilities (Kaukauna).

e. Name of Project: Combined Locks Hydroelectric Project (Combined Locks Project or project).

f. Location: The existing project is located on the Lower Fox River in the Village of Combined Locks and the Village of Little Chute, Outagamie County, Wisconsin.

g. Filed Pursuant to: Federal Power Act, 16 U.S.C. 791(a)-825(r).

h. Zachary Moureau, Environmental & Compliance Manager, Kaukauna Utilities, 777 Island Street, Kaukauna, WI 54130-7077; (920) 462-0238; zmoureau@ku-wi.org.

i. FERC Contact: Kelly Wolcott, (202) 502-6480, or kelly.wolcott@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Combined Locks Hydroelectric Project (P-2715-026).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis.

l. The Combined Locks Project consists of: (1) a concrete and cyclopean stone dam approximately 654 feet long and 27 feet high with additional 24 inch nominal flashboards mounted upon the spillway crest at elevation 674.6 feet International Great Lakes Datum of 1985 (IGLD85); (2) a 126.9-acre reservoir at normal full pool elevation 676.7 feet IGLD85; (3) a powerhouse approximately 65 feet wide by 130 feet long housing two 3.1-megawatt (MW) generators, for a total authorized capacity of 6.2 MW; (4) a tailrace channel; (5) a 265-foot-long, 4.16-kilovolt (kV) interconnection line from the powerhouse to transformer and 1,442-foot-long, 12.47-kV interconnection line from the transformer to the substation; and (6) appurtenant facilities.

The Combined Locks Project is operated as a run-of-the-river in coordination with the United States Army Corps of Engineers (Corps), which releases flows into the Lower Fox River from the Corps' Lake Winnebago. Kaukauna maintains the impoundment within a 2-foot range of the top of the wooden flashboards, when possible. The project average annual generation between 2014 and 2020 was 42,744 megawatt hours.

Kaukauna does not propose changes to project facilities or operations. Kaukauna proposes to: (1) continue to operate the project in a run-of-river mode to protect aquatic resources; (2) continue to dispose of large woody debris and trash collected from the trashracks; (3) implement invasive species monitoring every 2 years, and manage species categorized as “prohibited” by the Wisconsin Department of Natural Resources if observed in the project boundary; and (4) evaluate the project dam for National Register of Historic Places eligibility.

m. In addition to publishing the full text of this document in the Federal Register, the Commission provides all interested individuals an opportunity to view and/or print the contents of this document via the internet through the Commission's Home Page (www.ferc.gov) using the “eLibrary” link. At this time, the Commission has suspended access to the Commission's Public Access Room. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments—May 2023

Scoping Document 1 comments due—June 2023

Issue Scoping Document 2 (if necessary)—July 2023

Issue Notice of Ready for Environmental Analysis—July 2023

Dated: May 10, 2023.
Kimberly D. Bose,
Secretary.

[FR Doc. 2023-10381 Filed 5-15-23; 8:45 am]

BILLING CODE 6717-01-P